OFFICE OF THE UNITED STATES TRADE REPRESENTATIVE

[Dispute No. WTO/DS422]

WTO Dispute Settlement Proceeding Regarding United States—Anti-Dumping Measures on Certain Frozen Warmwater Shrimp From China

AGENCY: Office of the United States Trade Representative.

ACTION: Notice; request for comments.

SUMMARY: The Office of the United States Trade Representative (“USTR”) is providing notice that on February 28, 2011, the People's Republic of China requested consultations with the United States under the Marrakesh Agreement Establishing the World Trade Organization (“WTO Agreement”) concerning antidumping measures regarding certain frozen warmwater shrimp from China. That request may be found at http://www.wto.org contained in a document designated as WT/DS422/1. USTR invites written comments from the public concerning the issues raised in this dispute.

DATES: Although USTR will accept any comments received during the course of the dispute settlement proceedings, comments should be submitted on or before May 2, 2011, to be assured of timely consideration by USTR.

ADDRESSES: Public comments should be submitted electronically to http://www.regulations.gov, docket number USTR-2011-0002. If you are unable to provide submissions by http://www.regulations.gov, please contact Sandy McKinzy at (202) 395-9483 to arrange for an alternative method of transmission. If (as explained below) the comment contains confidential information, then the comment should be submitted by fax only to Sandy McKinzy at (202) 395-3640.

FOR FURTHER INFORMATION CONTACT: Jared Wessel, Assistant General Counsel, Office of the United States Trade Representative, 600 17th Street, NW., Washington, DC 20508, (202) 395-3150.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by China

On February 28, 2011, China requested consultations regarding the antidumping duty investigation, a number of antidumping administrative reviews, and the sunset review conducted by the Department of Commerce on certain frozen warmwater shrimp from China, referring in particular to the use of what it describes as “zeroing” in those proceedings. Specifically, China requested consultations regarding the determinations by the Department of Commerce in (1) Notice of Final Determination of Sales at Less Than Fair Value: Certain Frozen and Canned Warmwater Shrimp From the People's Republic of China, 69 FR 70,997 (December 8, 2004), and the accompanying November 29, 2004, Issues and Decision Memorandum, as well as any amendments, replacements and/or implementing measures issued pursuant thereto; (2) Certain Frozen Warmwater Shrimp From the People's Republic of China: Notice of Final Results and Rescission, in Part, of 2004/2006 Antidumping Duty Administrative and New Shipper Reviews, 72 FR 52,049 (September 12, 2007); (3) Third Administrative Review of Frozen Warmwater Shrimp From the People's Republic of China: Final Results and Partial Rescission of Antidumping Duty Administrative Review, 74 FR 46,565 (September 10, 2009); (4) Administrative Review of Certain Frozen Warmwater Shrimp From the People's Republic of China: Final Results and Partial Rescission of Antidumping Duty Administrative Review, 75 FR 49,460 (August 13, 2010); (5) Certain Frozen Warmwater Shrimp From the People's Republic of China: Preliminary Results and Preliminary Partial Rescission of Fifth Antidumping Duty Administrative Review, 76 FR 8,338 (February 14, 2011); (6) the final results of the fifth antidumping duty administrative review on Certain Frozen Warmwater Shrimp From the People's Republic of China published in the Federal Register after the date of the request for consultations, as well as any amendments, replacements, and/or implementing measures, including, inter alia, any assessment instructions and cash deposit requirements issued pursuant to each of the identified administrative reviews; (7) Certain Frozen Warmwater Shrimp from Brazil, India, the People's Republic of China and Thailand: Final Results of the Expedited Sunset Reviews of the Antidumping Duty Orders, 75 FR 27,299 (May 14, 2010), as well as any amendments, replacements, and/or implementing measures issued pursuant thereto. China also requested consultations regarding any affirmative injury determination issued by the United States International Trade Commission (“ITC') in the sunset review of certain frozen warmwater shrimp from China after the date of its request for consultations in which the antidumping duty margin considered by the ITC for purposes of determining injury is calculated using so-called zeroing. See Notice of Institution of Five-Year Reviews Concerning the Antidumping Duty Orders on Frozen Warmwater Shrimp From Brazil, China, India, Thailand, and Vietnam, Investigation Nos. 731-TA-1063, 1064, 1066-1068 (Review), 75 FR 1,078 (January 8, 2010).

China alleges that so-called zeroing is inconsistent with Articles VI:1 and VI:2 of the General Agreement on Tariffs and Trade 1994 and Articles 1, 2.1, 2.4, 2.4.2, 5.8, 9.1, 9.2, 9.3, 9.4, and 11.3 of the Agreement on Implementation of Article VI of the General Agreement on Tariffs and Trade 1994.

Public Comment: Requirements for Submissions

Interested persons are invited to submit written comments concerning the issues raised in this dispute. Persons may submit public comments electronically to http://www.regulations.gov docket number USTR-2011-0002. If you are unable to provide submissions by http://www.regulations.gov, please contact Sandy McKinzy at (202) 395-9483 to arrange for an alternative method of transmission.

To submit comments via http://www.regulations.gov, enter docket number USTR-2011-0002 on the home page and click “search”. The site will provide a search-results page listing all documents associated with this docket. Find a reference to this notice by selecting “Notice” under “Document Type” on the left side of the search-results page, and click on the link entitled “Submit a Comment.” (For further information on using the http://www.regulations.gov Web site, please consult the resources provided on the Web site by clicking on “How to Use This Site” on the left side of the home page.)

The http://www.regulations.gov site provides the option of providing comments by filling in a “Type Comment and Upload File” field, or by attaching a document. It is expected that most comments will be provided in an attached document. If a document is attached, it is sufficient to type “See attached” in the “Type Comment and Upload File” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to http://www.regulations.gov. The non-confidential summary will be placed in the docket and open to public inspection.

Information or advice contained in a comment submitted, other than business confidential information, may be determined by USTR to be confidential in accordance with section 135(g)(2) of the Trade Act of 1974 (19 U.S.C.2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice. Any comment containing confidential information must be submitted by fax. A non-confidential summary of the confidential information must be submitted to http://www.regulations.gov. The non-confidential summary will be placed in the docket and open to public inspection.

Pursuant to section 127(e) of the Uruguay Round Agreements Act (19 U.S.C. 3537(e)), USTR will maintain a docket on this dispute settlement proceeding accessible to the public at http://www.regulations.gov, docket number USTR-2011-0002. The public file will include non-confidential comments received by USTR from the public with respect to the dispute. If a dispute settlement panel is convened or in the event of an appeal from such a panel, the U.S. submissions, any non-confidential submissions, or non-confidential summaries of submissions, received from other participants in the dispute, will be made available to the public on USTR's Web site at http://www.ustr.gov, and the report of the panel, and, if applicable, the report of the Appellate Body, will be available on the Web site of the World Trade Organization, http://www.wto.org. Comments open to public inspection may be viewed on the http://www.regulations.gov Web site.

William Busis,
Deputy Assistant United States Trade Representative for Monitoring and Enforcement.

[FR Doc. 2011-7501 Filed 3-30-11; 8:45 am]

BILLING CODE 3190-W1-P